GENERAL SERVICES ADMINISTRATION

41 CFR Chapter 301

[FTR Amendment 2009-05; FTR Case 2009-305; Docket Number 2009-0001, Sequence 5]

RIN 3090-AI93

Federal Travel Regulation (FTR); FTR Case 2009-305; Travel Purpose Identifier

AGENCY: Office of Governmentwide Policy (MTT), GSA.

ACTION: Final rule.

SUMMARY: The General Services Administration (GSA) is amending the provisions of the Federal Travel Regulation (FTR) that pertain to the use of the travel purpose identifiers. This final rule updates the list of travel purpose identifiers and incorporates new descriptive language for each identifier to enhance how travel costs are indentified by Federal agencies.

DATES: Effective Date: This final rule is effective August 20, 2009.

Applicability Date: This final rule is applicable to travel performed on, or after August 20, 2009.

FOR FURTHER INFORMATION CONTACT: The Regulatory Secretariat (VPR), Room 4041, GS Building, Washington, DC 20405, (202) 501-4744, for information pertaining to status or publication schedules. For clarification of content, contact Mr. Rick Miller, Office of Travel, Transportation and Asset Management (MT), General Services Administration at (202) 501-3822 or e-mail at Rodney.Miller@gsa.gov. Please cite FTR Amendment 2009-05; FTR Case 2009-305.

SUPPLEMENTARY INFORMATION: The Federal Government began using travel purpose identifiers in the mid-1970s as a result of Congressional interest in the types of travel funded by the Government. Travel purpose identifiers categorize the various types of travel that occur in support of an agency's mission and help classify associated costs for that mission.

The travel purpose identifiers used today and listed in Appendix C to Chapter 301 of FTR are as follows: (1) Site Visit, (2) Information Meeting, (3) Training Attendance, (4) Speech or Presentation, (5) Conference Attendance, (6) Relocation, and (7) Entitlement Travel. As the Government's missions have changed over time, it has become questionable as to whether or not the current identifiers adequately capture the complexity of modern Federal travel.

Consequently, GSA and several other agencies established a Travel Purpose Identifier Focus Group to:

• Review the current identifiers;

• Recommend what, if any, changes should be made;

• Develop one common list of identifiers with the flexibility to accommodate agency-specific sub-identifiers; and

• Provide definitions for the new identifiers.

During the review, the focus group evaluated the current identifiers and discussed current travel processes to include: Trends and changes that have occurred since the travel purpose identifiers were last updated in 1998, how funding is appropriated, what is still relevant, and what new processes need to be evaluated and/or implemented to improve the travel purpose identification process. Two key points seemed evident, namely that “Employee Emergency” and “Mission” travel should be addressed and each identifier should be better defined and categorized.

The focus group deliberations concluded that the current travel purpose identifiers did not adequately define the types of travel that regularly occur today. Thus, the group recommended six new travel purpose identifiers for use within the Federal community. Adoption of the recommended identifiers would:

• Standardize identifiers across the Government;

• Provide the ability to report travel spending by purpose;

• Permit the highlighting of special travel requirements in agency budgets and missions;

• Allow agencies to develop mission-specific sub-identifiers; and

• Provide a greater opportunity to develop standardized reports Governmentwide.

The new travel purpose identifiers are as follows: (1) Employee Emergency, (2) Mission (Operational), (3) Special Agency Mission, (4) Conference—Other Than Training, (5) Training, and (6) Relocation.

B. Executive Order 12866

This final rule is not a significant regulatory action and, therefore, was not subject to review under Section 6(b) of Executive Order 12866, Regulatory Planning and Review, dated September 30, 1993. This final rule is not a major rule under 5 U.S.C. 804.

C. Regulatory Flexibility Act

This final rule is not required to be published in the Federal Register for notice and comment, and therefore the Regulatory Flexibility Act, 5 U.S.C. 601, et seq., does not apply.

D. Paperwork Reduction Act

The Paperwork Reduction Act does not apply because the final changes to the FTR do not impose recordkeeping or information collection requirements, or the collection of information from offerors, contractors, or members of the public that requires the approval of the Office of Management and Budget (OMB) under 44 U.S.C. 3501 et seq.

E. Small Business Regulatory Enforcement Fairness Act

This final rule is also exempt from congressional review prescribed under 5 U.S.C. 801 since it relates to agency management and personnel.

List of Subjects in 41 CFR Appendix C to Chapter 301

Standard Data Elements for Federal Travel (Traveler Identification)

Dated: May 8, 2009.
Paul F. Prouty,
Acting Administrator.

For the reasons set forth in the preamble and pursuant to 5 U.S.C. 5701-5709, 41 CFR Appendix C to Chapter 301 is amended to read as follows:

CHAPTER 301—[AMENDED]

Amend Appendix C to Chapter 301, in the table named “Traveler Identification” by revising the entries “Travel Purpose Identifier” and “Payment Method” to read as follows:

Appendix C to Chapter 301—Standard Data Elements for Federal Travel [Travel Identification]

Group name | Data elements | Description
* * * * * * *
Travel Purpose Identifier | Employee Emergency | Travel related to an unexpected occurrence/event or injury/illness that affects the employee personally and/or directly that requires immediate action/attention. Examples: Traveler is incapacitated by illness or injury, death or serious illness of a family member (as defined in § 300-3.1 or § 301-30.2), or catastrophic occurrence or impending disaster that directly affects the employee's home. Emergency travel also includes travel for medical care while employee is TDY away from the official duty station (Part 301-30), death of an employee/immediate family member when performing official duties away from the official duty station or home of record (Part 303-70), medical attendant transportation (Part 301-30), assistance travel for an employee with special needs (Part 301-13), as well as travel for threatened law enforcement/investigative employees (Part 301-31).
| Mission (Operational) | Travel to a particular site in order to perform operational or managerial activities. Travel to attend a meeting to discuss general agency operations, review status reports, or discuss topics of general interest. Examples: Employee's day-to-day operational or managerial activities, as defined by the agency, to include, but not be limited to: hearings, site visit, information meeting, inspections, audits, investigations, and examinations.
| Special Agency Mission | Travel to carry out a special agency mission and/or perform a task outside the agency's normal course of day-to-day business activities that is unique or distinctive. These special missions are defined by the head of agency and are normally not programmed in the agency annual funding authorization. Examples: These agency-defined special missions may include details, security missions, and agency emergency response/recovery such as civil, natural disasters, evacuation, catastrophic events, technical assistance, evaluations or assessments.
| Conference—Other Than Training | Travel performed in connection with a prearranged meeting, retreat, convention, seminar, or symposium for consultation or exchange of information or discussion. Agencies have to distinguish between conference and training attendance and use the appropriate identifier (see Training below). Examples: To participate in a planned program as a speaker/panelist or other form of presentation, host, planner, or others designated to oversee the conference or attendance with no formal role, or as an exhibitor.
| Training | Travel in conjunction with educational activities to become proficient or qualified in one or more areas of responsibility. 5 USC 4101(4) states that “ `training' means the process of providing for and making available to an employee, and placing or enrolling the employee in a planned, prepared, and coordinated program, course, curriculum, subject, system, or routine of instruction or education, in scientific, professional, technical, mechanical, trade, clerical, fiscal, administrative, or other fields which will improve individual and organizational performance and assist in achieving the agency's mission and performance goals.” The term “conference” may also apply to training activities that are considered to be conferences under 5 CFR 410.404, which states that “agencies may sponsor an employee's attendance at a conference as a developmental assignment under section 4110 of title 5, United States Code, when: (a) The announced purpose of the conference is educational or instructional; (b) More than half of the time is scheduled for a planned, organized exchange of information between presenters and audience which meets the definition of training in section 4101 of title 5, United States Code; (c) The content of the conference is germane to improving individual and/or organizational performance, and (d) Development benefits will be derived through the employee's attendance.” Agencies have to distinguish between conference and training attendance and use the appropriate identifier (see Conference—Other Than Training above). Examples: Job required training, Internships, Intergovernmental Personnel Act, and forums.
| Relocation | Travel performed in connection with a transfer from one official duty station to another for employees/immediate family members, as applicable. Examples: Permanent change of station (PCS) moves for domestic and international transferees/new appointees, tour renewal, temporary change of station (TCS), and last move home.
* * * * * * *
Payment Method | EFT | Direct deposit via electronic funds transfer.
| Treasury Check | Payment made by Treasury check.
| Imprest Fund | Payment made by Imprest Fund.
* * * * * * *

[FR Doc. E9-17128 Filed 7-20-09; 8:45 am]

BILLING CODE 6820-14-P